DEPARTMENT OF HEALTH AND HUMAN SERVICES

Food and Drug Administration

21 CFR Part 58

Conforming Regulations Regarding Removal of Section 507 of the Federal Food, Drug, and Cosmetic Act

CFR Correction

In Title 21 of the Code of Federal Regulations, Parts 1 to 99, revised as of April 1, 2002, on page 310, in § 58.3, paragraph (e)(9) is removed and reserved.

[FR Doc. 03-55505 Filed 2-7-03; 8:45 am]

BILLING CODE 1505-01-D